NUCLEAR REGULATORY COMMISSION

10 CFR Part 70

RIN 3150-AE95

Clarification of Decommissioning Funding Requirements; Correction

AGENCY: Nuclear Regulatory Commission.

ACTION: Final rule; correcting amendments.

SUMMARY: This document corrects a misreference appearing in a final rule that was published in the Federal Register on July 26, 1995 (60 FR 38235). This action is to correct this typographical error for clarity and consistency in the regulations.

DATES: Effective May 11, 2001.

FOR FURTHER INFORMATION CONTACT: Jayne M. McCausland, Office of Nuclear Material Safety and Safeguards, U.S. Nuclear Regulatory Commission, Washington, DC 20555-0001 [telephone (301) 415-6219, e-mail JMM2@nrc.gov].

SUPPLEMENTARY INFORMATION:

Background

On July 26, 1995 (60 FR 38235), a final rule entitled “Clarification of Decommissioning Funding Requirements” was published in the Federal Register. The purpose of the final rule was to amend the regulations applicable to decommissioning funding assurance and the expiration and termination of licenses for nonreactor licensees. In that final rule, paragraph (e) of § 30.36, Expiration and termination of licensees and decommissioning of sites and separate buildings or outdoor areas,” referenced § 30.35, Financial assurance and recordkeeping for decommissioning.” Similarly, paragraph (e) to § 40.42, Expiration and termination of licenses and decommissioning of sites and separate or outdoor areas, referenced § 40.36, Financial assurance and recordkeeping for decommissioning. However, paragraph (e) to § 70.38, Expiration and termination of licenses and decommissioning of sites and separate buildings or outdoor areas, erroneously referenced § 30.35 instead of § 70.25, Financial assurance and recordkeeping for decommissioning. This typographical error needs to be corrected.

Need for Corrections

As published, the final rule entitled “Clarification of Decommissioning Funding Requirements” (60 FR 38235; July 26, 1995) contains a typographical error in § 70.38(e) which needs to be corrected.

List of Subjects in 10 CFR Part 70

Criminal penalties, Hazardous materials transportation, Material control and accounting, Nuclear materials, Packaging and containers, Radiation protection, Reporting and recordkeeping requirements, Scientific equipment, Security measures, Special nuclear material.

For the reasons set out in the preamble and under the authority of the Atomic Energy Act of 1954, as amended, the Energy Reorganization Act of 1974, as amended, and 5 U.S.C. 553, the NRC is adopting the following amendment to 10 CFR part 70.

PART 70—DOMESTIC LICENSING OF SPECIAL NUCLEAR MATERIAL

1. The authority citation for Part 70 continues to read as follows:

Authority: Secs. 51, 53, 161, 182, 183, 68 Stat. 929, 930, 948, 953, 954, as amended, sec. 234, 83 Stat. 444, as amended (42 U.S.C. 2071, 2073, 2201, 2232, 2233, 2282, 2297f); secs. 201, as amended, 202, 204, 206, 88 Stat. 1242, as amended, 1244, 1245, 1246 (42 U.S.C. 5841, 5842, 5845, 5846); sec. 193, 104 Stat. 2835 as amended by Pub. L. 104-134, 110 Stat. 1321, 1321-349 (42 U.S.C. 2243).

Sections 70.1 and 70.20a(b) also issued under secs. 134, 141, Pub. L. 97-425, 96 Stat. 2232, 2241 (42 U.S.C. 10155). Section 70.7 also issued under Pub. L. 95-601, sec. 10, 92 Stat. 2951 (42 U.S.C. 5851). Section 70.21(g) also issued under sec. 122, 68 Stat. 939 (42 U.S.C. 2152). Section 70.31 also issued under sec. 57d. Pub. L. 93-377, 88 Stat. 475 (42 U.S.C. 2077). Sections 70.36 and 70.44 also issued under sec. 184, 68 Stat. 954, as amended (42 U.S.C. 2234). Section 70.61 also issued under secs. 186, 187, 68 Stat. 955 (42 U.S.C. 2236, 2237). Section 70.62 also issued under sec. 108, 68 Stat. 939, as amended (42 U.S.C. 2138).

2. In § 70.38, the introductory text of paragraph (e) is revised to read as follows

§ 70.38 Expiration and termination of licenses and decommissioning of sites and separate buildings or outdoor areas.

* * * * *

(e) Coincident with the notification required by paragraph (d) of this section, the licensee shall maintain in effect all decommissioning financial assurances established by the licensee pursuant to § 70.25 in conjunction with a license issuance or renewal or as required by this section. The amount of the financial assurance must be increased, or may be decreased, as appropriate, to cover the detailed cost estimate for decommissioning established pursuant to paragraph (g)(4)(v) of this section.

* * * * *

Dated at Rockville, Maryland, this 7th day of May, 2001.
For the Nuclear Regulatory Commission.
Michael T. Lesar,
Rules and Directives Branch, Division of Administrative Services,Office of Administration.

[FR Doc. 01-11901 Filed 5-10-01; 8:45 am]

BILLING CODE 7590-01-P